DEPARTMENT OF COMMERCE

National Oceanic and Atmospheric Administration

RIN 0648-XF440

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council (Council) will hold public meetings of the Council and its Committees.

DATES: The meeting will be held on Tuesday, June 6 through Thursday, June 8, 2017. For agenda details, see SUPPLEMENTARY INFORMATION.

ADDRESSES: The meetings will be held at: Hilton Norfolk The Main, 100 East Main Street, Norfolk, VA 23510; telephone: (757) 763-6200.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council; telephone: (302) 526-5255.

SUPPLEMENTARY INFORMATION: The following items are on the agenda, though agenda items may be addressed out of order (changes will be noted on the Council's Web site when possible).

Agenda

Tuesday, June 6, 2017

SARC Presentation—Surfclam/Ocean Quahog Assessments

Surfclam/Ocean Quahog Specifications

Develop recommendations for 2018—2020 specifications.

Surfclam/Ocean Quahog Excessive Shares Amendment

Approve scoping document.

Lobster Standardized Bycatch Reporting Methodology Framework

Discuss alternatives.

Risk Policy Framework—First Meeting

Review and approve options for potential revision to current MAFMC Risk Policy and ABC Control Rules.

Climate Velocity Over the 21st Century and Its Implications for Fisheries Management in the Northeast U.S

Review climate-velocity-driven species distribution projections for 2020 through 2100 and identify potential propriety species for adaptation of fisheries management to climate change.

Cooperative Research in the Mid-Atlantic

Review of NEFSC Cooperative Research and response to MAFMC request and the Mid-Atlantic Council approach to collaborative research.

Wednesday, June 7, 2017

Mackerel, Squid, Butterfish Committee, Meeting as a Committee of the Whole—Specifications

Review fishery performance and make recommendations for 2018-20 specifications, including butterfish cap.

Shad/River Herring (RH/S) Committee, Meeting as a Committee of the Whole

Review RH/S cap operation and RH/S progress update and make recommendations for RH/S cap amount modification if necessary.

Mackerel, Squid, Butterfish Committee, Meeting as a Committee of the Whole—Squid Amendment

Review alternatives, public comments, and staff recommendations and select preferred alternatives and adopt amendment.

Law Enforcement Reports

NOAA Office of Law Enforcement and the U.S. Coast Guard.

Data Modernization in the Northeast Region

Habitat Update

EFH review progress and Mid-Atlantic fish habitat assessment project.

Thursday, June 8, 2017

Business Session

The day will conclude with the SSC Committee Report, the Executive Director's Report, the Science Report, brief reports from the National Marine Fisheries Service's GARFO and the Northeast Fisheries Science Center, NOAA's Office of General Counsel, the ASMFC, the New England and South Atlantic Fishery Council's liaisons and the Regional Planning Body Report, and discuss any continuing and/or new business.

Special Accommodations

These meetings are physically accessible to people with disabilities. Requests for sign language interpretation or other auxiliary aids should be directed to M. Jan Saunders, (302) 526-5251, at least 5 days prior to the meeting date.

Dated: May 17, 2017.
Tracey L. Thompson,
Acting Deputy Director, Office of Sustainable Fisheries, National Marine Fisheries Service.

[FR Doc. 2017-10329 Filed 5-19-17; 8:45 am]

BILLING CODE 3510-22-P